OFFICE OF PERSONNEL MANAGEMENT

5 CFR Part 300

RIN 3206-AL18

Time-in-Grade Eliminated, Delay of Effective Date and Addition of Comment Period

AGENCY: U.S. Office of Personnel Management.

ACTION: Final rule; delay of effective date and addition of comment period.

SUMMARY: This document delays the effective date by 60 days and provides a 30-day public comment period to run concurrently for the final rule eliminating the time-in-grade requirement for competitive promotions, as published in the Federal Register on November 7, 2008.

DATES: The effective date for the final rule published on November 7, 2008 (73 FR 66157), is delayed until May 18, 2009. Written comments must be received on or before April 8, 2009.

FOR FURTHER INFORMATION CONTACT: Ms. Janice Warren by telephone (202) 606-0960; by FAX (202) 606-2329; by TTY (202) 418-2134; or by e-mail janice.warren@opm.gov.

SUPPLEMENTARY INFORMATION: The Office of Personnel Management published a Final Rule in the Federal Register on November 7, 2008 (73 FR 66157). Pursuant to a January 20, 2009, White House Memorandum on regulatory review, agencies are requested to consider extending for 60 days the effective date of regulations that have been published in the Federal Register but not yet taken effect, for the purpose of reviewing questions of law and policy raised by those regulations. Where such an extension is made, agencies are requested to immediately reopen the notice-and-comment period for 30 days to allow interested parties to provide comments about issues of law and policy raised by those regulations. As a result, OPM has delayed the effective date of the final rule from March 9, 2008 to May 18, 2009. OPM has also opened a 30-day public comment period.

U.S. Office of Personnel Management.
Kathie Ann Whipple,
Acting Director.

[FR Doc. E9-5008 Filed 3-5-09; 11:15 am]

BILLING CODE 6325-39-P